FEDERAL COMMUNICATIONS COMMISSION

47 CFR Part 73

[DA 05-2217; MB Docket No. 04-19; RM-10845]

Radio Broadcasting Services; Munford and Talladega, AL

AGENCY: Federal Communications Commission.

ACTION: Final rule.

SUMMARY: In response to a Notice of Proposed Rule Making, 69 FR 8357 (February 24, 2004), this Report and Order reallots Channel 224A, Station WTDR(FM) (“WTDR”), Talladega, Alabama, to Munford, Alabama, and modifies Station WTDR's license accordingly. The coordinates for Channel 224A at Munford, Alabama, are 33-29-12 NL and 85-59-15, with a site restriction of 5.9 kilometers (3.6 miles) southwest of Munford.

DATES: Effective September 12 , 2005.

FOR FURTHER INFORMATION CONTACT: R. Barthen Gorman, Media Bureau, (202) 418-2180.

SUPPLEMENTARY INFORMATION: This is a synopsis of the Commission's Report and Order, MB Docket No. 04-19, adopted July 27, 2005, and released July 29, 2005. The full text of this Commission decision is available for inspection and copying during normal business hours in the FCC's Reference Information Center at Portals II, 445 12th Street, SW., Room CY-A257, Washington, DC 20554. The document may also be purchased from the Commission's duplicating contractor, Best Copy and Printing, Inc., Portals II, 445 12th Street, SW., Room CY-B402, Washington, DC 20554, telephone 1-800-378-3160 or http://www.BCPIWEB.com. The Commission will send a copy of this Report and Order in a report to be sent to Congress and the Government Accountability Office pursuant to the Congressional Review Act, see 5 U.S.C. 801(a) (1) (A).

List of Subjects in 47 CFR Part 73

Radio, Radio broadcasting.

Part 73 of Title 47 of the Code of Federal Regulations is amended as follows:

PART 73—RADIO BROADCAST SERVICES

1. The authority citation for Part 73 reads as follows:

Authority: 47 U.S.C. 154, 303, 334 and 336.

§ 73.202 [Amended]

2. Section 73.202(b), the Table of FM Allotments under Alabama, is amended by adding Munford, Channel 224A and removing Channel 224A at Talladega.

Federal Communications Commission.
John A. Karousos,
Assistant Chief, Audio Division, Media Bureau.

[FR Doc. 05-16067 Filed 8-16-05; 8:45 am]

BILLING CODE 6712-01-P